DEPARTMENT OF LABOR

Occupational Safety and Health Administration

National Advisory Committee on Ergonomics

AGENCY: Occupational Safety and Health Administration (OSHA), Labor.

ACTION: Establishment of the National Advisory Committee on Ergonomics (NACE); notice of meeting.

SUMMARY: The National Advisory Committee on Ergonomics is being established and chartered for a two year term. This committee is part of the Secretary's comprehensive approach for reducing ergonomics-related injuries and illnesses in the workplace. The Secretary may ask NACE to advise her on such matters as ergonomic guidelines, research, and outreach and assistance. This notice announces the selection of 15 persons to serve as members of NACE and schedules the first NACE meeting. The public is encouraged to attend.

DATES: The Committee will meet in Washington, DC on Wednesday, January 22, 2003 from 9 a.m. until approximately 5 p.m.

ADDRESSES: The Committee will meet at the Washington Court Hotel, 525 New Jersey Avenue, NW., Washington, DC 20001; Telephone (202) 628-2100.

Mail comments, views, or statements in response to this notice to MaryAnn Garrahan, Director, Office of Technical Programs and Coordination Activities, OSHA, U.S. Department of Labor, Room N-3655, 200 Constitution Avenue, NW., Washington, DC 20210. Phone: (202) 693-2144; Fax: (202) 693-1644.

FOR FURTHER INFORMATION CONTACT: Bonnie Friedman, OSHA, Office of Public Affairs, Room N-3647, U.S. Department of Labor, 200 Constitution Avenue, NW., Washington, DC 20210; Telephone: (202) 693-1999.

SUPPLEMENTARY INFORMATION:

I. Background

On April 4, 2002, the Secretary of Labor announced her intention to establish a National Advisory Committee on Ergonomics to advise her in the following areas: (1) Various industry or task-specific guidelines; (2) identification of gaps in research applying ergonomic principles to the workplace; (3) current and projected research needs; (4) methods of providing outreach and assistance that will communicate the value of ergonomics to employers and employees; and (5) ways to increase communication among stakeholders on the issue of ergonomics. On May 2, 2002, OSHA published a notice in the Federal Register requesting nominations for membership on NACE (67 FR 22121).

II. Establishment

In accordance with the provisions of the Federal Advisory Committee Act (FACA), as amended (5 U.S.C. App. 2) and after consultation with the General Services Administration (GSA), the Secretary of Labor has determined that the establishment of the National Advisory Committee on Ergonomics (NACE) is in the public interest, to advise the Secretary as to the performance of Departmental duties under the Occupational Safety and Health Act of 1970 (OSH Act), 29 U.S.C. 651 et seq. Notice is hereby given that NACE is established for a period of two years and that the charter has been filed in accordance with 41 CFR 102-3.70.

III. Appointment of Committee Members

Over two hundred nominations of highly qualified individuals were received in response to the Agency's request for nominations. Ergonomics involves a wide range of complex issues.

For that reason, the Secretary has selected the following individuals who have a wide range of experience concerning the issues to be examined by the Committee. The NACE members are:

Edward Bernacki, M.D., M.P.H., Associate Professor and Director, Johns Hopkins Univ. School of Medicine, Baltimore, Maryland.

Lisa M Brooks, C.I.E., Health and Safety Program Manager for International Paper, Memphis, Tennessee.

Paul A. Fontana, President/CEO for Work Rehabilitation, Inc., Lafayette, Louisiana.

Willis J. Goldsmith,. Esq., Jones, Day, Reavis & Pogue, Washington, DC.

Morton L Kasdan,. M.D., Clinical Professor of Surgery, University of Louisville, Louisville, Kentucky.

Carter J. Kerk, Ph.D., Associate Professor in Industrial Engineering, South Dakota School of Mines & Technology, Rapid City, South Dakota.

James L. Koskan, MS, CSP, Corporate Director of Risk Control, SUPERVALU INC., Minneapolis, Minnesota.

George P. LaPorte, Ergonomics Manager, NATLSCO Loss Control Services, Division of Kemper Insurance Companies, Lake Zurich, Illinois.

Barbara McCabe, Program Manager, Operating Engineers National Hazmat Program, Operating Engineers, Beaver, West Virginia.

J. Dan McCausland, Consultant and Director, Worker Safety and Human Resources, American Meat Institute, Madison, Wisconsin.

Audrey Nelson, Ph.D., RN, Center Director for VHA Patient Safety Center of Inquiry, Suncoast Development Research Evaluation Research Center on Safe Patient Transitions, Tampa, Florida.

Lida Orta-Anes, Ph.D., Associate Professor, Graduate School of Public Health, University of Puerto Rico, San Juan, Puerto Rico.

Roxanne Rivera, President and CEO, PMR Construction Services, Inc., Albuquerque, New Mexico.

W. Corey Thompson, National Safety and Health Specialist, American Postal Workers Union, Washington, DC.

Richard Wyatt, Ph.D., Associate Director, Aon Ergonomic Services, Huntsville, Alabama.

These individuals represent a broad range of interests, knowledge, and experience in the field of ergonomics, and the breadth of membership will assure that the Committee will be fairly balanced in terms of the points of view represented and the functions to be performed.

III. Meeting Agenda

The first meeting of NACE on January 22, 2003, will include an introduction of the Committee members and an overview and brief history of OSHA's activities related to ergonomics. The meeting will also include a discussion of OSHA's efforts to develop ergonomic guidelines, and presentations on enforcement, outreach, and research issues.

IV. Public Participation

Written data, views, or comments for consideration by NACE on the various agenda items listed above may be submitted, preferably with copies, to MaryAnn Garrahan at the address listed above. Submissions received by January 14, 2003 will be provided to the committee members for consideration. Requests to make oral presentations to the Committee may be granted if time permits. Anyone wishing to make an oral presentation to the Committee should notify MaryAnn Garrahan at the address noted above. The request should state the amount of time desired, the capacity in which the person will appear, and a brief outline of the content of the presentation.

Persons with disabilities requiring special accommodations should contact Veneta Chatman (telephone: (202) 693-1912; FAX (202) 693-1635) by January 14, 2003.

A transcript of the meeting will be available for inspection and copying in the OSHA Technical Data Center, Room N-2625 (see address section above) telephone: (202) 693-2350.

Authority: This notice was prepared under the direction of John L. Henshaw, Assistant Secretary for Occupational Safety and Health. It is issued under the Federal Advisory Committee Act (FACA) (5 U.S.C. App. 2), GSA's FACA Regulations (41 CFR part 102-3), and DLMS 3 Chapter 1600.

Signed at Washington, DC, this 30th day of December 2002.
John L. Henshaw,
Assistant Secretary of Labor.

[FR Doc. 03-277 Filed 1-6-03; 8:45 am]

BILLING CODE 4510-26-P